DEPARTMENT OF JUSTICE

Notice of Lodging of Agreement and Order Regarding Modification of Consent Decree

Notice is hereby given that on January 21, 2011, the United States lodged an Agreement and Order Regarding Modification of the Consent Decree entered in the matter captioned, United States v. The Kansas City Southern Railway Co., Civil Action No. 1:07-cv-1793, in the United States District Court for the Western District of Louisiana, Alexandria Division.

The proposed modifications were jointly agreed by the United States and the Kansas City Southern Railway Co. The Consent Decree pertains to the cleanup of the Ruston Foundry Superfund Site located in Alexandria, Rapides Parish, Louisiana and, due to changes in the response action conducted at this Site, the parties agreed to make certain conforming modifications to the Consent Decree. The Consent Decree entered in this matter on January 14, 2008 required the Settling Defendant to clean up the Site to levels suitable for industrial use only, through excavation and offsite disposal. However, while performing the remedial work, the Settling Defendant was able to clean up the Site to levels appropriate for unrestricted use, including recreational and residential use. By this Notice and the attached Agreement and Order Regarding Modification of the Consent Decree, the parties seek to harmonize the Consent Decree with the response actions conducted at the Site.

The Department of Justice will receive for a period of thirty (30) days from the date of this publication comments relating to the Modifications. Comments should be addressed to the Assistant Attorney General, Environment and Natural Resources Division, P.O. Box 7611, U.S. Department of Justice, Washington, DC 20044-7611, and either e-mailed to pubcomment-ees.enrd@usdoj.gov or mailed to P.O. Box 7611, U.S. Department of Justice, Washington, DC 20044-7611, and should refer to United States v. The Kansas City Southern Railway Co., Civil Action No. 1:07-cv-1793, (D.La.), D.J. Ref. 90-11-2-08002.

During the public comment period, the Agreement and Order Regarding Modification of the Consent Decree may be examined on the following Department of Justice Web site, http://www.usdoj.gov/enrd/Consent_Decrees.html. A copy of the Agreement and Order Regarding Modification of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $14.50 (25 cents per page reproduction cost) payable to the U.S. Treasury or, if by e-mail or fax, forward a check in that amount to the Consent Decree Library at the stated address.

Maureen Katz,
Assistant Chief, Environmental Enforcement Section, Environment and Natural Resources Division.

[FR Doc. 2011-1649 Filed 1-25-11; 8:45 am]

BILLING CODE 4410-15-P